DEPARTMENT OF JUSTICE

Notice of Public Meeting by Teleconference Concerning Heavy Duty Diesel Engine Consent Decrees

The Department of Justice and the Environmental Protection Agency will hold a public meeting on November 19, 2008 at 10 a.m. eastern time by teleconference. The subject of the meeting will be implementation of the provisions of the seven consent decrees signed by the United States and diesel engine manufacturers and entered by the United States District Court for the District of Columbia on July 1, 1999 (United States v. Caterpillar, Case No. 1:98CV02544; United States v. Navistar International Transportation Corporation, Case No. 1:98CV02545; United States v. Cummins Engine Company, Case No. 1:98CV02546; United States v. Detroit Diesel Corporation, Case No. 1:98CV02548; United States v. Volvo Truck Corporation, Case No. 1:98CV02547; United States v. Mack Trucks, Inc., Case No. 1:98CV01495; and United States v. Renault Vehicles Industries, S.A., Case No. 1:98CV02543). In supporting entry by the court of the decrees, the United States committed to meet periodically with states, industry groups, environmental groups, and concerned citizens to discuss consent decree implementation issues. Future meetings will be announced here and on EPA's Diesel Engine Settlement Web site at: http://www.epa.gov/compliance/resources/cases/civil/caa/diesel/index.html.

Interested parties should contact the Environmental Protection Agency at the address listed below prior to the meeting to reserve a telephone line and receive instructions for the call.

Agenda

1. Panel Remarks—10 a.m.

Remarks by DOJ and EPA regarding implementation of the provisions of the diesel engine consent decrees.

2. Public comments and questions.

FOR FURTHER INFORMATION CONTACT: Anne Wick, EPA Diesel Engine Consent Decree Coordinator, U.S. Environmental Protection Agency (Mail Code 2242A), 1200 Pennsylvania Avenue N.W., Washington, DC 20460, e-mail: wick.anne@epa.gov.

Karen S. Dworkin,
Assistant Chief, Environment & Natural Resources Division, Environmental Enforcement Section.

[FR Doc. E8-25888 Filed 10-29-08; 8:45 am]

BILLING CODE 4410-15-P